INTERNATIONAL TRADE COMMISSION

[Investigation Nos. 731-TA-1607-1611 (Preliminary)]

Boltless Steel Shelving Units Prepackaged for Sale From India, Malaysia, Taiwan, Thailand, and Vietnam; Revised Schedule for the Subject Investigations

AGENCY: International Trade Commission.

ACTION: Notice.

DATES: April 28, 2023.

FOR FURTHER INFORMATION CONTACT: Jordan Harriman (202-205-2610), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for this investigation may be viewed on the Commission's electronic docket (EDIS) at https://edis.usitc.gov.

SUPPLEMENTARY INFORMATION: On April 26, 2023, the Commission established a schedule for the conduct of the preliminary phase of the subject investigations, which included an in-person staff conference. The Commission will now hold its staff conference via video conference beginning 9:30 a.m. on May 16, 2023. Requests to appear at the conference should be emailed to preliminaryconferences@usitc.gov (DO NOT FILE ON EDIS) on or before Friday, May 12, 2023. Please provide an email address for each conference participant in the email. Information on conference procedures will be provided separately and guidance on joining the video conference will be available on the Commission's Daily Calendar.

For further information concerning this proceeding, see the Commission's notice cited above and the Commission's Rules of Practice and Procedure, part 201, subparts A through E (19 CFR part 201), and part 207, subparts A and C (19 CFR part 207).

Authority: These investigations are being conducted under authority of title VII of the Tariff Act of 1930; this notice is published pursuant to § 207.21 of the Commission's rules.

By order of the Commission.
Issued: April 28, 2023.
Lisa Barton,
Secretary to the Commission.

[FR Doc. 2023-09394 Filed 5-2-23; 8:45 am]

BILLING CODE 7020-02-P